DEPARTMENT OF COMMERCE

[A-122-857]

Certain Softwood Lumber Products From Canada: Final Results of Antidumping Duty Administrative Review and Final Determination of No Shipments; 2020; Correction

AGENCY: Enforcement and Compliance, International Trade Administration, Department of Commerce.

ACTION: Notice; correction.

SUMMARY: The U.S. Department of Commerce (Commerce) published notice in the Federal Register on August 9, 2022, in which Commerce announced the final results of the 2020 administrative review of the antidumping duty (AD) order on softwood lumber from Canada. That notice incorrectly stated the all-others rate established in the less than fair value investigation to be 6.58 percent. The correct all-others rate established in the less than fair value investigation is 6.04 percent.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Background

On August 9, 2022, Commerce published in the Federal Register the final results of the 2020 administrative review of the AD order on softwood lumber from Canada.¹ Commerce incorrectly stated the all-others rate established in the less than fair value investigation to be 6.58 percent. The correct all-others rate established in the less than fair value investigation is 6.04 percent.

¹ See Certain Softwood Lumber Products from Canada: Final Results of Antidumping Duty Administrative Review and Final Determination of No Shipments; 2020, 87 FR 48465 (August 9, 2022).

Correction

In the Federal Register of August 9, 2022, in FR Doc 2022-17065, on page 48466, in the third column, replace the all-others rate of “6.58” percent with “6.04” percent.

Notification to Interested Parties

This notice is issued and published in accordance with sections 751(a)(1) and 777(i)(1) of the Tariff Act of 1930, as amended, and 19 CFR 351.213.

Dated: January 17, 2025.
Abdelali Elouaradia,
Deputy Assistant Secretary for Enforcement and Compliance.

[FR Doc. 2025-01689 Filed 1-23-25; 8:45 am]

BILLING CODE 3510-DS-P